NATIONAL SCIENCE FOUNDATION

Advisory Committee for Cyberinfrastructure; Notice of Meeting

In accordance with the Federal Advisory Committee Act (Pub. L. 92-463, as amended), the National Science Foundation (NSF) announces the following meeting:

Name and Committee Code: Advisory Committee for Cyberinfrastructure (25150).

Date and Time: April 28, 2022; 10 a.m.-5 p.m., April 29, 2022; 10 a.m.-5 p.m.

Place: Virtual Meeting, National Science Foundation, 2415 Eisenhower Avenue, Alexandria, VA 22314.

This meeting will be held virtually. The final meeting agenda and instructions to register will be posted on the ACCI website: https://www.nsf.gov/cise/oac/advisory.jsp.

Type of Meeting: Open.

Contact Person for More Information: Dr. Kevin Thompson, CISE, Office of Advanced Cyberinfrastructure, National Science Foundation, 2415 Eisenhower Avenue, Alexandria, VA 22314; Telephone: 703-292-8970.

Minutes: May be obtained from the contact person listed above and will be posted within 90-days after the meeting end date to the ACCI website: https://www.nsf.gov/cise/oac/advisory.jsp.

Purpose of Meeting: To advise NSF on the impact of its policies, programs and activities in the OAC community. To provide advice to the Director/NSF on issues related to long-range planning.

Agenda: Updates on NSF wide OAC activities.

Dated: March 24, 2022.
Crystal Robinson,
Committee Management Officer.

[FR Doc. 2022-06641 Filed 3-29-22; 8:45 am]

BILLING CODE 7555-01-P